DEPARTMENT OF AGRICULTURE

Forest Service

Notice of Proposed New Fee Sites; Federal Lands Recreation Enhancement Act, (Title VIII, Pub. L. 108-447)

AGENCY: Deschutes National Forest, USDA Forest Service.

ACTION: Notice of Proposed New Fee Sites.

SUMMARY: The Deschutes National Forest is planning to charge fees at eleven recreation sites. Most of the sites have recently been reconstructed and upgraded. There are plans to add amenities to all sites in order to improve services and experiences. With the exception of Fall River Guard Station, all sites will be administered according to the current fee structure on the Deschutes National Forest which requires a Recreation Pass for parking. Day use fees would be five dollars and recreation passes, such as the Annual Recreation Fee Pass or Interagency Pass would continue to be honored. Fees are assessed based on the level of amenities and services provided, cost of operation and maintenance, market assessment, and public comment. The fees listed are only proposed and will be determined upon further analysis and public comment. Funds from fees would be used for the continued operation and maintenance of these recreation sites.

Fall River Guard Station will be available for overnight rental. Cabin rentals offer a unique experience and are a widely popular offering on National Forests. The rental fee will be between $70 and $100 a night. Fall River Guard Station is eligible for the National Register of Historic Places and the nomination process is currently being completed. The cabin has been recently renovated and the last phases are almost finished. A campground style toilet will be installed and renters will be responsible for bringing their own water. The cabin will be ready for rental in September, 2008. Fees would continue to help protect and maintain the historic integrity of this cabin. Simax Beach consists of two beach areas that are divided by a rock jetty. One beach allows dogs and the other beach does not. Both beaches have picnic tables, bulletin boards, a paved parking area, a paved road, fire rings, toilets, garbage collection, and a portal sign.

Tranquil Cove is a day use picnic area with a parking lot, a toilet, picnic tables and fire rings.

Spring Boat Launch has a paved parking lot, docks, signs, garbage collection and a toilet. Crescent Lake Boat Launch has a paved parking lot, docks, signs, garbage collection and a toilet.

The Windy-Oldenberg Trailhead has a large parking lot, an interpretive kiosk, toilets, and garbage collection.

Trapper Creek Boat Launch has interpretive signs, a parking area, a dock, a toilet, and garbage collection.

The Whitefish Creek Trailhead is at the back of a horse camp with a small parking lot that is only capable of holding two or three truck and trailer combinations. The site is unable to handle the amount of current use and there are plans to relocate it to a better location with adequate parking, toilets and garbage collection.

Princess Creek Boat Launch has a picnic area, a parking area, docks, a toilet, and garbage collection.

Sunset Cove Boat Launch has a large paved parking lot, a dock that provides for disabled access, interpretive signs, a fish cleaning station, a toilet, and garbage collection. Willamette Pass/Rosary Trailhead has a parking area, a toilet and a signboard.

DATES: New fees would begin in May of 2009, contingent upon completion of certain improvements.

ADDRESSES: John Allen, Forest Supervisor, Deschutes National Forest, 1001 SW., Emkay Drive, Bend, OR 97702.

FOR FURTHER INFORMATION CONTACT: Leslie Moscoso, Recreation Fee Coordinator, 541-383-4712.

SUPPLEMENTARY INFORMATION: The Federal Recreation Lands Enhancement Act (Title VII, Pub. L. 108-447) directed the Secretary of Agriculture to publish a six-month advance notice in the Federal Register whenever new recreation fee areas are established. Once public involvement is complete, these new fees will be reviewed by a Recreation Resource Advisory Committee prior to a final decision and implementation.

Dated: July 11, 2008.
John Allen,
Forest Supervisor.

[FR Doc. E8-16383 Filed 7-16-08; 8:45 am]

BILLING CODE 3410-11-M